DEPARTMENT OF COMMERCE

Foreign-Trade Zones Board

[Order No. 1299]

Grant of Authority for Subzone Status; Decatur Mold Tool & Engineering, Inc. (Plastic Injection Molds), North Vernon, IN

Pursuant to its authority under the Foreign-Trade Zones Act, of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant to qualified corporations the privilege of establishing foreign-trade zones in or adjacent to U.S. Customs ports of entry;

Whereas, the Board's regulations (15 CFR part 400) provide for the establishment of special-purpose subzones when existing zone facilities cannot serve the specific use involved, and when the activity results in a significant public benefit and is in the public interest;

Whereas, the Indianapolis Airport Authority, grantee of Foreign-Trade Zone 72, has made application to the Board for authority to establish a special-purpose subzone at the plastic injection molds manufacturing and warehousing facilities of Decatur Mold Tool & Engineering, Inc., located in North Vernon, Indiana (FTZ Docket 62-2002, filed 12/17/02);

Whereas, notice inviting public comment was given in the Federal Register (67 FR 79047, 12-27-02); and,

Whereas, the Board adopts the findings and recommendations of the examiner's report, and finds that the requirements of the FTZ Act and the Board's regulations are satisfied, and that approval of the application is in the public interest;

Now, Therefore, the Board hereby grants authority for subzone status at the plastic injection molds manufacturing and warehousing facilities of Decatur Mold Tool & Engineering, Inc., located in North Vernon, Indiana (Subzone 72R), at the location described in the application, and subject to the FTZ Act and the Board's regulations, including section 400.28.

Signed at Washington, DC, this 25th day of August, 2003.
Jeffrey May,
Acting Assistant Secretary of Commerce for Import Administration, Alternate Chairman, Foreign-Trade Zones Board.

[FR Doc. 03-23068 Filed 9-9-03; 8:45 am]

BILLING CODE 3510-DS-P